DEPARTMENT OF COMMERCE

National Oceanic and Atmospheric Administration

Agency Information Collection Activities; Submission to the Office of Management and Budget (OMB) for Review and Approval; Comment Request; Seafood Inspection and Certification Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 8, 2024.

ADDRESSES: Interested persons are invited to submit written comments to Adrienne Thomas, NOAA PRA Officer, at Adrienne.thomas@noaa.gov. Please reference OMB Control Number 0648-0266 in the subject line of your comments. All comments received are part of the public record and will generally be posted on https://www.regulations.gov without change. Do not submit Confidential Business Information or otherwise sensitive or protected information.

FOR FURTHER INFORMATION CONTACT: Requests for additional information or specific questions related to collection activities should be directed to Jeff Weir, Director, Operations and Administration Division (OMI), Office of International Affairs and Seafood Inspection, 1315 East West Hwy., Bldg. SSMC3, Silver Spring, MD 20910-3282, (301) 427-8377 or Jeff.Weir@noaa.gov.

SUPPLEMENTARY INFORMATION:

I. Abstract

This request is for a revision and extension of an approved information collection. The National Marine Fisheries Service (NMFS) operates a voluntary fee-for- service seafood inspection program (Program) under the authorities of the Agricultural Marketing Act of 1946, as amended, the Fish and Wildlife Act of 1956, and the Reorganization Plan No. 4 of 1970. The regulations for the Program are contained in 50 CFR part 260. The program offers inspection grading and certification services, including the use of official quality grade marks which indicate that specific products have been federally inspected. Those wishing to participate in the program must request the services and submit specific compliance information.

This collection is being revised to include the Surety Bond form, which has been in use for decades, but was inadvertently omitted in previous information collection requests.

II. Method of Collection

Respondents have a choice of either electronic or paper forms. Methods of submittal include email and online portal submission of electronic forms, and mail and facsimile transmission of paper forms.

III. Data

OMB Control Number: 0648-0266.

Form Numbers: 89-800, 89-801, 89-814.

Type of Review: Regular submission (revision and extension of a current information collection).

Affected Public: Business or other for-profit organizations; Not-for-profit institutions; State, Local, or Tribal government.

Estimated Number of Respondents: 1,012.

Estimated Time per Response: Contract Request, 5 minutes; Surety Bond, 5 minutes; Inspection Request, 5 minutes.

Estimated Total Annual Burden Hours: 23,067.

Estimated Total Annual Cost to Public: $4,809 in recordkeeping/reporting costs.

Respondent's Obligation: Required to Obtain or Retain Benefits.

Legal Authority: Agricultural Marketing Act of 1946, as amended, the Fish and Wildlife Act of 1956, and the Reorganization Plan No. 4 of 1970.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-20219 Filed 9-6-24; 8:45 am]

BILLING CODE 3510-22-P